Proclamation 10673 of November 14, 2023

America Recycles Day, 2023

By the President of the United States of America

A Proclamation

On America Recycles Day, we recognize the critical role recycling plays in caring for our environment and addressing the existential threat of climate change. We honor the people, communities, and organizations that are working every day to recycle and responsibly steward our natural resources. We recommit to each doing our own part to secure a greener, cleaner, and more sustainable future for our communities, country, and planet.

Over a third of the world's greenhouse gas emissions—and many of the toxins and pollutants that harm public health—come from the production and processing of materials that people use every day. That is why recycling and reducing waste as much as possible is so important. By recycling, we send less waste to landfills and reduce the need for raw materials, thereby saving energy and conserving valuable natural resources. Still, our country faces too many barriers to recycling. Some Americans are unsure about which materials can be recycled, and municipalities struggle to establish connections with markets that can use their recycled materials. Many people, especially people of color and low-income Americans, have suffered disproportionately from the damaging effects of pollution, including landfilled, dumped, or incinerated waste.

To improve the way our Nation recycles, my Administration made the largest investment in recycling in nearly three decades through our Bipartisan Infrastructure Law. These funds have helped launch dozens of new initiatives, including projects to improve waste management, reduce harm in communities that have long faced environmental injustice, and increase public awareness and education about recycling. We also released a National Recycling Strategy to highlight the ways government, industry, and other entities can utilize our recycling and waste management systems—including best practices for collecting recyclable products, reaching markets for these materials, and funding the latest recycling technologies that will protect public health and the environment. In pursuit of our goal to reach net-zero greenhouse gas emissions by 2050, I signed the Inflation Reduction Act, which made the largest investment in climate action in history.

There is still more we can do to improve recycling practices across the country. I call upon manufacturers and businesses to offer more sustainable products, to reuse materials and reduce the use of raw materials, to adopt effective recycling practices, and to design and build durable projects that are fully recyclable. I also call upon all Americans to learn what is recyclable in their cities and towns, sort waste into the appropriate bins, embrace reusable containers, engage in food composting, and reduce the use of non-recyclable materials, such as many single-use plastics. Everyone has a role to play, and by working together to recycle, we can improve the health of our environment and our world for generations to come.

NOW, THEREFORE, I, JOSEPH R. BIDEN JR., President of the United States of America, by virtue of the authority vested in me by the Constitution and the laws of the United States, do hereby proclaim November 15, 2023, as America Recycles Day. I call upon the people of the United States of America to observe this day with appropriate programs and activities, and I encourage all Americans to continue their environmental efforts by recycling throughout the year.

IN WITNESS WHEREOF, I have hereunto set my hand this fourteenth day of November, in the year of our Lord two thousand twenty-three, and of the Independence of the United States of America the two hundred and forty-eighth.

[FR Doc. 2023-25639

Filed 11-16-23; 8:45 am]

Billing code 3395-F4-P